Title 3—

The President

Proclamation 9897 of May 31, 2019

African-American Music Appreciation Month, 2019

By the President of the United States of America

A Proclamation

Throughout American history, African-American music has reflected our Nation's challenges and triumphs and has always enriched our Nation's culture. During African-American Music Appreciation Month, we pay tribute to the talented and inspiring African-American artists who have given sound and voice to the full range of human emotions through the blues, jazz, gospel, rock and roll, rap, hip hop, and other genres.

Last year, we lost one of our Nation's most beloved African-American musicians, songwriters, and singers, Aretha Franklin, the “Queen of Soul.” She was an 18-time Grammy Award winner and the first female artist inducted into the Rock and Roll Hall of Fame. During her extraordinary career, Franklin infused her talent and unmistakable style into gospel, rhythm and blues, rock and roll, jazz, and even opera. Her songs are treasures of the American music canon. A recipient of the Presidential Medal of Freedom and the National Medal of Arts, Franklin's imprint on America's soundscape is timeless. She will forever reign as a luminary of African-American music.

This month, we celebrate the countless contributions of African-American singers, composers, and musicians, who have influenced and shaped every genre and style of music. They have turned universally shared emotions and experiences of suffering, joy, passion, pain, faith, injustice, and love into art that speaks to the heart and spirit of any American. African-American music has the power to encourage, inspire, and affect social change. It transcends time, compelling generation after generation to sing, dance, think, and feel, and it endures in our culture, our history, our spirit, and our collective national soul.

NOW, THEREFORE, I, DONALD J. TRUMP, President of the United States of America, by virtue of the authority vested in me by the Constitution and the laws of the United States, do hereby proclaim June 2019 as African-American Music Appreciation Month. I call upon public officials, educators, and all the people of the United States to observe this month with appropriate activities and programs that raise awareness and appreciation of African-American music.

IN WITNESS WHEREOF, I have hereunto set my hand this thirty-first day of May, in the year of our Lord two thousand nineteen, and of the Independence of the United States of America the two hundred and forty-third.

[FR Doc. 2019-11976

Filed 6-4-19; 11:15 am]

Billing code 3295-F9-P